DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before July 8, 2022.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on June 2, 2022.
Donald P. Burger,
Chief, General Approvals and Permits Branch.

Special Permits Data
Application No. | Applicant | Regulation(s) affected | Nature of the Special Permits thereof
21371-N | Korean Air Lines Co., Ltd | 172.101(j), 173.27(b)(2), 173.27(b)(3), 175.30(a)(1) | To authorize the transportation in commerce of explosives by cargo aircraft which is forbidden in the regulations. (mode 4)
21372-N | Solid Power, Inc | 173.35(e) | To authorize the transportation of residue contained in IBCs where the closure nearest to the hazardous materials cannot be secured. (mode 1)
21373-N | Sigma-Aldrich Co. LLC | 172.704 | To authorize the transportation in commerce of hazardous materials packaged in UN 4G boxes that have been partially prepared by persons that are not trained in accordance with Part 172 Subpart H. (modes 1, 2, 3, 4, 5)
21377-N | Proterra Operating Company, Inc | 172.101(j) | To authorize the transportation in commerce of lithium batteries exceeding 35 kg by cargo-only aircraft. (mode 4)
21378-N | Rawhide Leasing Company LLC |  | To authorize the requalification of 3A, 3AA, 3AX, 3AAx and 3T cylinders by proof pressure testing in accordance with CGA Pamphlet C-1 in lieu of hydrostatic or direct expansion testing. (modes 1, 2, 3, 4, 5)
21379-N | Trane U.S. Inc | 172.500, 178.1 | To authorize the transportation in commerce of refrigerating machines containing up to 2,400 lbs of A2L refrigerant gases without requiring placards. (modes 1, 2)
21380-N | Tesla, Inc | 173.21(c), 173.185(b)(1), 173.185(b)(2)(iii), 173.185(b)(4)(ii) | To authorize the transportation in commerce of lithium ion batteries with a sparker system. (mode 1)
21381-N | Jungbunzlauer Inc | 173.241 | To authorize the transportation in commerce of lactic acid in non-DOT specification intermediate bulk containers. (mode 1)

[FR Doc. 2022-12304 Filed 6-7-22; 8:45 am]

BILLING CODE P